DEPARTMENT OF HEALTH AND HUMAN SERVICES

National Institutes of Health

Center for Scientific Review; Amended Notice of Meeting

Notice is hereby given of a change in the meeting of the Center for Scientific Review Special Emphasis Panel, April 3, 2000, 4 p.m. to April 3, 2000, 7 p.m., NIH, Rockledge 2, Bethesda, MD 20892 which was published in the Federal Register on April 3, 2000, 65 FR 17519.

The meeting will be held on July 11, 2000, 2 p.m. to 3 p.m. The location remains the same. The meeting is closed to the public.

Dated: June 14, 2000.
LaVerne Y. Stringfield,
Director, Office of Federal Advisory Committee Policy.

[FR Doc. 00-15743 Filed 6-21-00; 8:45 am]

BILLING CODE 4140-01-M